DEPARTMENT OF AGRICULTURE

Food and Nutrition Service

Agency Information Collection Activities: Proposed Collection; Comment Request: Supplemental Nutrition Assistance Program Pre-Screening Tool

AGENCY: Food and Nutrition Service, USDA.

ACTION: Notice.

SUMMARY: In accordance with the Paperwork Reduction Act of 1995, this notice invites the general public and other public agencies to comment on this revision to a currently approved collection. The information collection involves the use of a Web-based pre-screening tool for the general public to use to determine potential eligibility for Supplemental Nutrition Assistance Program benefits.

DATES: Written comments must be submitted on or before November 21, 2011.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including use of appropriate, automated, electronic, mechanical, or other technological collection techniques or other forms of information technology.

Comments may be sent to Angela Kline, Branch Chief, Certification Policy Branch, Program Development Division, Supplemental Nutrition Assistance Program, Food and Nutrition Service, U.S. Department of Agriculture, 3101 Park Center Drive, Room 810, Alexandria, VA 22302. Comments may also be submitted via fax to the attention of Angela Kline at 703-305-2486 or via e-mail to Angela.Kline@fns.usda.gov.

Comments will also be accepted through the Federal eRulemaking Portal. Go to http://www.regulations.gov and follow the online instructions for submitting comments electronically.

All written comments will be open for public inspection at the office of the Food and Nutrition Service during regular business hours (8:30 a.m. to 5 p.m., Monday through Friday) at 3101 Park Center Drive, Alexandria, Virginia 22302, Room 810.

All responses to this notice will be summarized and included in the request for Office of Management and Budget approval of the information collection. All comments will become a matter of public record.

FOR FURTHER INFORMATION CONTACT: Requests for additional information should be directed to Angela Kline at (703) 305-2495.

SUPPLEMENTARY INFORMATION: Title: Supplemental Nutrition Assistance Program Pre-Screening Tool.

OMB Number: 0584-0519.

Expiration Date: December 31, 2011.

Type of Request: Revision of a currently approved collection.

Abstract: In June 2003, the Food and Nutrition Service (FNS) deployed an interactive web-based pre-screening tool that can be utilized by the general public to determine potential eligibility for benefits in the Supplemental Nutrition Assistance Program (SNAP). Once the user enters household size, income, expenses and resource information, the tool will calculate and provide the user with an estimated range of benefits that the household may be eligible to receive. Since SNAP eligibility and benefit amount may vary by location, FNS makes it clear that the tool is only an estimator and the household will need to contact the local agency to determine actual eligibility and the appropriate benefit amount. Other data collected are:

• State: State or territory in which the user resides;

• Citizenship: whether each member is a U.S. citizen;

• Number of Children: number of children in the household;

• Number of Elderly: number of elderly members in the household;

• Migrant Workers: is anyone in the household a seasonal or migrant farm worker;

• Homeless: is the household homeless or living in a shelter;

• User Type: who is using the tool; and

• User Referral: how the user heard about the tool.

Although the tool also requests the name and age of the user, FNS does not retain this information nor does it request other personally identifiable information such as social security numbers, birthdays, etc. about the household itself in the tool. However, the system does request the following information during the initial process in which the user enters data:

• Whether the user is using the tool for personal reasons or on behalf of others; and

• If they are using it on behalf of others, the user will be asked to identify him/herself (e.g., relative of a person in need, advocacy organization, faith-based group, etc.) using a drop down menu.

Once the user logs out of the system, none of the user-provided information is retained by FNS.

Since this information collection was last extended, participation in the program increased by approximately 50 percent, primarily the result of significantly higher unemployment leading to increased participation. The estimate is based participation data extracted from the FNS National Databank using a comparison in participation for the 3-year period prior to the current burden estimate with participation data for the last two years. Assuming a similar increase in the number of potential applicants who will use the prescreening tool, FNS projects an annual burden of 66,132 hours representing an increase of 22,132 over the burden estimate of 44,000 hours used in the current approval of this information collection. Because none of the data entered by users is retained, there is no recordkeeping requirement associated with this information collection.

OMB #0584-0519 | Requirement | Estimated # respondents | Response annually per respondent | Total annual responses | Hours per response | Annual burden hours
Affected Public:
Potential SNAP clients
Reporting Burden | Completion of SNAP Prescreening Tool | 396,000 | 1 | 396,000 | 0.167 | 66,132
| Reporting Totals | 396,000 | 1 | 396,000 | 0.167 | 66,132
Recordkeeping Burden | Recordkeeping | 0 | 0 | 0 | 0 | 0
| Recordkeeping Totals | 0 | 0 | 0 | 0 | 0
| Total Recordkeeping and Reporting Burden | 396,000 |  | 396,000 | 0.167 | 66,132
| Total Number of Record Keepers | 0

Dated: September 12, 2011.
Audrey Rowe,
Administrator, Food and Nutrition Service.

[FR Doc. 2011-24085 Filed 9-19-11; 8:45 am]

BILLING CODE 3410-30-P